DEPARTMENT OF COMMERCE

National Oceanic and Atmospheric Administration

[Docket No.101101550-0550-01; I.D. GF001]

New NOAA Cooperative Institutes (CIs): (1) A Cooperative Institute To Improve Mesoscale and Stormscale High Impact Weather Forecasts, Watches, and Warnings Through the Use of, and Enhancement of, Weather Radar and (2) A Cooperative Institute To Support NOAA Northwest Research Facilities in the Area of Marine Resources

AGENCY: Oceanic and Atmospheric Research (OAR), National Oceanic and Atmospheric Administration (NOAA), Department of Commerce.

ACTION: Notice of funding availability.

SUMMARY: The NOAA Office of Oceanic and Atmospheric Research (OAR) and the National Marine Fisheries Service (NMFS) invite applications for: (1) A cooperative institute (CI) to improve mesoscale and stormscale high impact weather forecasts, watches, and warnings through the use of, and enhancement of, weather radar and (2) a CI to support NOAA research facilities in the northwest U.S. in the area of marine resources. Applicants should review the CI Interim Handbook prior to preparing a proposal for this announcement (http://www.nrc.noaa.gov/ci).

DATES: Proposals must be received by OAR no later than February 11, 2011, 5 p.m., E.T. For applications submitted through Grants.gov, a date and time receipt indication will form the basis for determining timeliness. Proposals must be validated by Grants.gov in order to be considered timely. For those applicants who do not have access to the Internet, one signed original and two hard copy applications must be received by NOAA at the following address: NOAA/OAR, Attn: Dr. John Cortinas, 1315 East West Highway, Room 11326, Silver Spring, Maryland 20910. Use of U.S. mail or another delivery service must be documented with a receipt. No facsimile or electronic mail proposal submissions will be accepted. Proposals submitted after 5 p.m., E.T., February 11, 2011 will not be considered. (Note that late-arriving hard copy proposals provided to a delivery service on or before 5 p.m., E.T., February 11, 2011 will be accepted for review if the applicants can document that the proposals were provided to the guaranteed delivery service by the specified closing date and time and if the proposals are received by OAR no later than 5 p.m., two business days following the closing date.) October 1, 2011 should be used as the proposed start date on proposals.

ADDRESSES: The standard application package is available at http://www.grants.gov. For applicants without Internet access, an application package may be secured by contacting Dr. John Cortinas, 1315 East West Highway, Room 11326, Silver Spring, Maryland 20910; telephone (301) 734-1090.

FOR FURTHER INFORMATION CONTACT: Dr. John Cortinas, 1315 East-West Highway, Room 11326, Silver Spring, Maryland 20910; telephone (301) 734-1090; E-mail: John.Cortinas@noaa.gov.

Request for Applications

The NOAA Office of Oceanic and Atmospheric Research (OAR) and the National Marine Fisheries Service (NMFS) invites applications for two cooperative institutes: (1) CI to improve mesoscale and stormscale high impact weather forecasts, watches, and warnings through the use of, and enhancement of, weather radar and (2) a CI to support NOAA research facilities in the northwest U.S. in the area of marine resources.

Generally, a CI is a NOAA-supported, non-Federal organization that has established an outstanding research program in one or more areas that are relevant to the NOAA mission “to understand and predict changes in the Earth's environment and conserve and manage coastal and marine resources to meet our Nation's economic, social, and environmental needs.” CIs are established at research institutions with outstanding graduate degree programs in NOAA-related sciences. CIs provide significant coordination of resources among all non-government partners and promote the involvement of students and post-doctoral scientists in NOAA-funded research.

NOAA establishes a new CI competitively when it identifies a need to sponsor a long-term (5-10 years) collaborative partnership with one or more outstanding non-Federal, non-profit research institutions. For NOAA, the purpose of this long-term collaborative partnership is to promote research, education, training, and outreach aligned with NOAA's mission; to obtain research capabilities that do not exist internally; and/or to expand research capacity in NOAA-related sciences to:

• Conduct collaborative, long-term research that involves NOAA scientists and those at the research institution(s) from one or more scientific disciplines of interest to NOAA;

• Utilize the scientific, education, and outreach expertise at the research institution(s) that, depending on NOAA's research needs, may or may not be located near a NOAA facility;

• Support student participation in NOAA-related research studies; and

• Strengthen or expand NOAA-related research capabilities and capacity at the research institution(s) that complements and contributes to NOAA's ability to reach its mission goals.

A CI may also partner with one or more research institutions that demonstrate outstanding performance within one or more established research programs in NOAA-related sciences, including Minority Serving Institutions that can contribute to the proposed activities of the CI. CIs conduct research under approved scientific research themes and Tasks (additional tasks can be proposed by the CI):

• Task I activities are related to the management of the CI, as well as general education and outreach activities. This task also includes support of postdoctoral and visiting scientists conducting activities within the research themes of the CI that are approved by the CI Director, in consultation with NOAA, and are relevant to NOAA and the CI's mission goals;

• Task II activities usually involve on-going direct collaboration with NOAA scientists. This collaboration typically is fostered by the collocation of Federal and CI employees; and

• Task III activities require minimal collaboration with NOAA scientists.

Generally, applications must include all relevant Federal Standard Forms, a project description that includes sufficient information to address all the evaluation criteria identified in the FFO announcement, a budget, and a budget justification. The project description must include a thorough explanation of all themes and Tasks. The application should also identify the capability and the capacity of the CI to conduct research in the themes described in the FFO announcement, as well as a summary of clearly stated goals to be achieved, reflecting NOAA's strategic goals and vision. Additional elements may also be requested. Applicants are directed to the FFO for all application information and requirements.

A Cooperative Institute To Improve Mesoscale and Stormscale High Impact Weather Forecasts, Watches, and Warnings Through the use of, and Enhancement of, Weather Radar

The CI will focus on the themes of: (1) Weather radar research and development, (2) stormscale and mesoscale modeling research and development, (3) forecast improvements research and development, (4) impacts of climate change related to extreme weather events, and (5) social and socioeconomic impacts of high impact weather systems. The CI will be established at a research institution not only having outstanding graduate degree programs in NOAA-related sciences, but also located within a commuting distance to NOAA's facilities in Norman, Oklahoma that provides for direct interactions on a regular basis. The CI will provide significant coordination of resources among all non-governmental partners and will promote the involvement of students and post-doctoral scientists in NOAA-funded research. If the CI is comprised of multiple member institutions, only the lead institution applying for the award and where the CI will be established must satisfy the commuting distance requirement.

Funding Availibility: All funding is contingent upon the availability of appropriations. NOAA anticipates that up to approximately $15M will be available annually for this CI. Of that amount, approximately $300,000-$400,000 will be available per year for Task I. The final amount of funding available for Task I will be determined during the negotiation phase of the award based on availability of funding. The actual amount of annual funding that the CI receives may be more or less than the anticipated amount and will depend on the actual projects that are approved by NOAA, the availability of funding, the quality of the research, the satisfactory progress in achieving the stated goals described in project proposals, and continued relevance to program objectives.

A Cooperative Institute To Support NOAA Northwest Research Facilities in the Area of Marine Resources

The CI to support NOAA research facilities in the northwest U.S. in the area of marine resources will focus on the themes of: (1) Seafloor processes, (2) marine mammal acoustics, (3) marine ecosystems, and (4) protection and restoration of marine resources. The CI will be established at a research institution not only having outstanding graduate degree programs in NOAA-related sciences, but also located within a commuting distance that allows direct interactions with CI and NOAA scientists at NOAA's Pacific Marine Environmental Laboratory, Northwest Fisheries Science Center, and Alaska Fisheries Science Center offices in Newport, Oregon, on a regular basis. The CI will provide significant coordination of resources among all non-governmental partners and will promote the involvement of students and post-doctoral scientists in NOAA-funded research. If the CI is comprised of multiple member institutions, only the lead institution applying for the award and where the CI will be established must satisfy the commuting distance requirement. This announcement provides requirements for the proposed CI and includes details for the technical program, evaluation criteria, and competitive selection procedures.

Funding Availibility: All funding is contingent upon the availability of appropriations. NOAA anticipates that up to approximately $7M will be available annually for this CI. Of that amount, approximately $100,000 will be available per year for Task I. The final amount of funding available for Task I will be determined during the negotiation phase of the award and will be based on availability of funding. The actual annual funding that the CI receives may be less than the anticipated amount and will depend on the actual projects that are approved by NOAA, the availability of funding, the quality of the research, the satisfactory progress in achieving the stated goals described in project proposals, and continued relevance to program objectives.

SUPPLEMENTARY INFORMATION: Electronic Access: The full text of the FFO announcement for this program can be accessed via the Grants.gov Web site at http://www.grants.gov. The announcement will also be available by contacting the program officials identified under FOR FURTHER INFORMATION CONTACT. Applicants must comply with all requirements contained in the full funding opportunity announcement.

Proposals must include elements requested in the full Federal Funding Opportunity announcement on the Grants.gov portal. If a hard copy application is submitted, NOAA requests that the original and two unbound copies of the proposal be included. Proposals, electronic or paper, should be no more than 75 pages (numbered) in length, excluding budget, investigators, vitae, and all appendices. Federally mandated forms are not included within the page count. Facsimile transmissions and electronic mail submission of full proposals will not be accepted.

Statutory Authorities: 15 U.S.C. 1540, 15 U.S.C. 313, 15 U.S.C. 2901 et seq., 118 STAT. 71 (January 23, 2004).

Eligibility: Eligibility is limited to public and private non-profit universities, colleges and research institutions that offer accredited graduate level degree-granting programs in NOAA-related sciences and that are within a commuting distance that provides for direct contact on a regular basis with scientists at the NOAA facilities in Norman, OK. If the proposed CI is comprised of multiple member institutions, only the lead institution applying for the award (and where the CI will be established) must satisfy the commuting distance requirement.

Cost Sharing Requirements: To stress the collaborative nature and investment of a CI by both NOAA and the research institution, cost sharing is required. There is no minimum cost sharing requirement; however, the amount of cost sharing will be considered when determining the level of the CI's commitment under NOAA's standard evaluation criteria for overall qualifications of applicants. Acceptable cost-sharing proposals include, but are not limited to, offering a reduced indirect cost rate against activities in one or more Tasks, waiver of any indirect costs assessed by the awardee on subawards, waiver of indirect costs assessed against base funds and/or Task I activities, waiver or reduction of any costs associated with the use of facilities at the CI, and full or partial salary funding for the CI director, administrative staff, graduate students, visiting scientists, or postdoctoral scientists.

Evaluation and Selection Procedures: The general evaluation criteria and selection factors that apply to full applications to this funding opportunity are summarized below. Further information about the evaluation criteria and selection factors can be found in the FFO announcement.

Evaluation Criteria for Projects: Proposals will be evaluated using the standard NOAA evaluation criteria. Various questions under each criterion are provided to ensure that the applicant includes information that NOAA will consider important during the evaluation, in addition to any other information provided by the applicant.

1. Importance and/or relevance and applicability of proposed project to the program goals (25 percent): This criterion ascertains whether there is intrinsic value in the proposed work and/or relevance to NOAA, regional, state, or local activities.

• Does the proposal include research goals and projects that address the critical issues identified in NOAA's 5-year Research Plan, NOAA's Strategic Plan, and the priorities described in the program priorities (see Section I.B.)?

• Is there a demonstrated commitment (in terms of resources and facilities) to enhance existing NOAA and CI resources to foster a long-term collaborative research environment/culture?

• Is there a strong education program with established graduate degree programs in NOAA-related sciences that also encourages student participation in NOAA-related research studies?

2. Technical/scientific merit (30 percent): This criterion assesses whether the approach is technically sound and/or innovative, if the methods are appropriate, and whether there are clear project goals and objectives.

• Does the project description include a summary of clearly stated goals to be achieved during the five year period that reflect NOAA's strategic plan and goals?

• Does the CI involve partnerships with other universities or research institutions, including Minority Serving Institutions and universities that can contribute to the proposed activities of the CI?

3. Overall qualifications of applicants (30 percent): This criterion ascertains whether the applicant possesses the necessary education, experience, training, facilities, and administrative resources to accomplish the project.

• If the institution(s) and/or Principal Investigators have received current or recent NOAA funding, is there a demonstrated record of outstanding performance working with NOAA and/or NOAA scientists on research projects?

• Is there nationally and/or internationally recognized expertise within the appropriate disciplines needed to conduct the collaborative/interdisciplinary research described in the proposal?

• Is there a well-developed business plan that includes fiscal and human resource management, as well as strategic planning and accountability?

• Are there any unique capabilities in a mission-critical area of research for NOAA?

• Has the applicant shown a substantial investment to the NOAA partnership, as demonstrated by the amount of the cost sharing contribution?

4. Project costs (5 percent): The budget is evaluated to determine if it is realistic and commensurate with the project needs and time-frame.

5. Outreach and education (10 percent): NOAA assesses whether this project provides a focused and effective education and outreach strategy regarding NOAA's mission to protect the Nation's natural resources.

Review and Selection Process: An initial administrative review/screening is conducted to determine compliance with requirements/completeness. All proposals will be evaluated and individually ranked in accordance with the assigned weights of the above-listed evaluation criteria by an independent peer review panel. At least three experts, who may be Federal or non-Federal, will be used in this process. If non-Federal experts participate in the review process, each expert will submit an individual merit review and there will be no consensus opinion. The merit reviewers' ratings are used to produce a rank order of the proposals. The Selecting Official selects proposals after considering the peer reviews and selection factors listed below. In making the final selections, the Selecting Official will award in rank order unless the proposal is justified to be selected out of rank order based upon one or more of the selection factors. The Selecting Official makes the final award recommendation to the Grants Officer authorized to obligate funds.

Selection Factors for Projects: The merit review ratings shall provide a rank order to the Selecting Official for final funding recommendations. The Selecting Official shall award in the rank order unless the proposal is justified to be selected out of rank order based upon one or more of the following factors:

1. Availability of funding.

2. Balance/distribution of funds:

(a) Geographically.

(b) By type of institutions.

(c) By type of partners.

(d) By research areas.

(e) By project types.

3. Whether this project duplicates other projects funded or considered for funding by NOAA or other agencies.

4. Program priorities and policy factors.

5. Applicant's prior award performance.

6. Partnerships and/or participation of targeted groups.

7. Adequacy of information necessary for NOAA staff to make a National Environmental Policy Act (NEPA) determination and draft necessary documentation before recommendations for funding are made to the Grants Officer.

Intergovernmental Review: Applications under this program are not subject to Executive Order 12372, “Intergovernmental Review of Programs.”

Limitation of Liability: In no event will NOAA or the Department of Commerce be responsible for proposal preparation costs if these programs fail to receive funding or are cancelled because of other agency priorities. Publication of this announcement does not oblige NOAA to award any specific project or to obligate any available funds.

National Environmental Policy Act (NEPA): NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216_6.pdf, and the Council on Environmental Quality implementation regulations, http://ceq.hss.doe.gov/nepa/regs/ceq/toc_ceq.htm.

Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-Award Notification Requirements for Grants and Cooperative Agreements: The Department of Commerce Pre-Award Notification Requirements for Grants and Cooperative Agreements contained in the Federal Register notice of February 11, 2008 (73 FR 7696), are applicable to this solicitation.

Paperwork Reduction Act: This document contains collection-of-information requirements subject to the Paperwork Reduction Act (PRA). The use of Standard Forms 424, 424A, 424B, SF-LLL, and CD-346 has been approved by the Office of Management and Budget (OMB) under the respective control numbers 4040-0004, 0348-0044, 0348-0040, 0348-0046, and 0605-0001. Notwithstanding any other provision of law, no person is required to, nor shall a person be subject to a penalty for failure to comply with, a collection of information subject to the requirements of the PRA unless that collection of information displays a currently valid OMB control number.

Executive Order 12866: This notice has been determined to be not significant for purposes of Executive Order 12866.

Executive Order 13132 (Federalism): It has been determined that this notice does not contain policies with implications as that term is defined in Executive Order 13132.

Administrative Procedure Act/Regulatory Flexibility Act: Prior notices and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: November 9, 2010.
Leon M. Cammen,
Acting, Chief Financial Officer, Office of Oceanic and Atmospheric Research, National Oceanic and Atmospheric Administration.

[FR Doc. 2010-28592 Filed 11-15-10; 8:45 am]

BILLING CODE 3510-KD-P